DEPARTMENT OF COMMERCE

National Oceanic and Atmospheric Administration

[RTID 0648-XC804]

Marine Mammals; File No. 27052

AGENCY: National Marine Fisheries Service (NMFS), National Oceanic and Atmospheric Administration (NOAA), Commerce.

ACTION: Notice; receipt of application.

SUMMARY: Notice is hereby given that the NMFS Northwest Fisheries Science Center (NWFSC), 2725 Montlake Boulevard East, Seattle, WA 98112-2097 (Responsible Party: M. Bradley Hanson, Ph.D.), has applied in due form for a permit to conduct research on marine mammals.

DATES: Written, telefaxed, or email comments must be received on or before April 3, 2023.

ADDRESSES: The application and related documents are available for review by selecting “Records Open for Public Comment” from the “Features” box on the Applications and Permits for Protected Species (APPS) home page, https://apps.nmfs.noaa.gov, and then selecting File No. 27052 from the list of available applications. These documents are also available upon written request via email to NMFS.Pr1Comments@noaa.gov.

Written comments on this application should be submitted via email to NMFS.Pr1Comments@noaa.gov. Please include File No. 27052 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant requests a 5-year permit to assess the biology and ecology of marine mammals in U.S. and international waters of the North Pacific Ocean off the coasts of Washington, Oregon, California, Alaska, and Canada. Up to 33 species of marine mammals may be taken during research including the following ESA-listed species: blue (Balaenoptera musculus), fin (B. physalus), gray (Eschrichtius robustus; Western North Pacific distinct population segments[DPS]), humpback (Megaptera novaeangliae; Western North Pacific, Central America, and Mexico DPSs), killer (Orcinus orca; Southern Resident DPS), North Pacific right (Eubalaena japonica), sei (B. borealis), and sperm (Physeter macrocephalus) whales; and Guadalupe fur seals (Arctocephalus townsendi) and Steller sea lions (Eumetopias jubatus; Western DPS). The applicant proposes to take marine mammals during vessel and aerial surveys, including unmanned aircraft systems, for above and underwater photography and videography, photo-identification, photogrammetry, thermal imaging, behavioral observations, passive acoustic recordings, prey mapping with echosounders, biological sampling (exhaled air, feces, sloughed skin, predation samples, and skin and blubber biopsies), and suction-cup tagging. Research may also be conducted on captive killer whales. Marine mammal parts may be received, imported, and exported for analysis. See the application for complete numbers of animals requested by species, life stage, and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: February 24, 2023.
Julia M. Harrison,
Chief, Permits and Conservation Division, Office of Protected Resources, National Marine Fisheries Service.

[FR Doc. 2023-04221 Filed 3-1-23; 8:45 am]

BILLING CODE 3510-22-P